DEPARTMENT OF THE INTERIOR

National Park Service

Notice of Inventory Completion: U.S. Department of the Interior, U.S. Fish and Wildlife Service, Region 7, Anchorage, AK

AGENCY: National Park Service, Interior.

ACTION: Notice.

Notice is here given in accordance with the Native American Graves Protection and Repatriation Act (NAGPRA), 25 U.S.C. 3003, of the completion of an inventory of human remains and associated funerary objects in the possession of the U.S. Department of the Interior, U.S. Fish and Wildlife Service, Region 7, Anchorage, AK. The human remains and associated funerary objects were removed from Kagamil Island, AK.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by U.S. Fish and Wildlife Service, Region 7 professional staff and forensic anthropologists from the University of Alaska, Anchorage, and with assistance from the Alaska State Office of History and Archaeology, in consultation with representatives of the Chaluka Corporation.

Between 1947 and 1950, human remains representing a minimum of 30 individuals were removed from Cold Cave on Kagamil Island, AK, by Theodore P. Bank II, an ethno-botanist, and William S. Laughlin, a physical anthropologist. The human remains were sent to the University of Michigan. In 1982, at the request of the Ounalashka Corporation and the National Park Service, the collection was moved to the University of Alaska Museum in Fairbanks. In 2002, the human remains and associated funerary artifacts were sent to The Museum of the Aleutians in Unalaska, AK, at the request of the Ounalashka Corporation and the museum. No known individuals were identified. The 127 associated funerary objects are 42 assorted bidarka pieces; 1 lot of wood fragments and other wooden objects; 1 wood bidarka paddle; 1 wooden spear shaft; 4 skin fragments from bidarka; 3 bone wedges; 1 bone bladder plug; 1 bone rack peg; 2 toggles; 3 bone points; 1 bone harpoon point; 1 bird bone awl; 2 bone awls; 1 digging tool; 1 bone fore-shaft; 1 bone hook; 1 bone fishhook shank; 1 bone artifact; 6 bird bones; 1 ivory labret; 1 walrus tusk; 1 curved antler fragment; 7 pieces of cordage; 1 cord wrapped with skin; 1 piece of matting with black decoration; 23 matting fragments; 1 piece of matting containing duff, wood and bones; 1 piece of matting with grass and hair; 2 loose human hairs; 1 lot of stuffing moss in unknown quantities; 1 grass bundle; 1 lot of grass padding; 1 birch bark fragment; 1 stone chip; 1 obsidian point; 2 basalt points; 1 broken basalt blade; 1 worked pumice block; 2 pieces of bird feather coat remains; and 2 sea otter pelt remains.

Between 1947 and 1950, human remains representing a minimum of one individual were removed from Warm Cave on Kagamil Island, AK, by Theodore P. Bank II, an ethno-botanist, and William S. Laughlin, a physical anthropologist. The human remains were sent to the University of Michigan. In 1982, at the request of the Ounalashka Corporation and the National Park Service, the collection was moved to the University of Alaska Museum in Fairbanks. In 2002, the human remains and associated funerary artifacts were sent to The Museum of the Aleutians, at the request of the Ounalashka Corporation and the museum. No known individual was identified. The 23 associated funerary objects are 7 round wooden shafts; 5 wood pieces; 2 wood pieces with thong attached; 1 wooden piece bound with gut; 1 wood object with peg holes; 1 piece birch bark; 3 pieces of matting, hair and fiber; 1 piece of cordage; 1 obsidian flake; and 1 worked shale fragment.

Between 1947 and 1950, human remains representing a minimum of four individuals were removed from Mask Cave on Kagamil Island, AK, by Theodore P. Bank II, an ethno-botanist. The human remains were sent to the University of Michigan. In 1982, at the request of the Ounalashka Corporation and the National Park Service, the collection was moved to the University of Alaska Museum in Fairbanks. In 2002, the human remains and associated funerary artifacts were sent to The Museum of the Aleutians, at the request of the Ounalashka Corporation and the museum. No known individuals were identified. The 60 funerary objects are 3 complete or nearly complete painted wood masks; approximately 29 mask fragments; 4 figurines and carved wooden objects; 17 bidarka pieces including a keel piece and a cross piece; 1 ivory labret; 1 ivory needle; 2 stone artifacts; 1 basalt flake; 1 shell object; and 1 lot of duff collected near a mask.

All individuals found within these caves are believed to be associated with the modern day populations of Umnak Island and Chaluka Corporation. There are no radiocarbon dates available for the human remains. All known dated cave burials from the Aleutians are younger than 2,000 years old (Black 1982, pg 24; Black 2003, pg 36; Hayes 2002). The human remains collected from burial caves on Kagamil Island were interred using traditional Aleut burial practices. The burial context and physical traits of the human remains are consistent with those observed for pre-contact Aleut populations. Skeletal morphology of present-day Aleut populations is similar to that of prehistoric Aleut populations and demonstrates biological affiliation between present-day Aleut groups and prehistoric populations in the Aleutian Islands.

Analysis by the University of Alaska, Anchorage, with the assistance of the Alaska State Office of History and Archaeology, included cranio-metric analysis and non-metric analysis of the post cranial skeletal human remains. The use of radiography was used to determine the contents of a small mummy bundle from Warm Cave. Analysis of the human remains concluded that these individuals are all of Aleut origin and are related culturally and geographically to each other and to the modern day inhabitants of Umnak Island, which are members of the Chaluka Corporation and Native Village of Nikolski. Cultural affiliation between the late prehistoric populations on Kagamil Island and the Chaluka Corporation is demonstrated by recent historical records. The Islands of the Four Mountains were occupied by a culturally distinct group of which little is known. Contact with Russian explorers was made in A.D. 1741. In the late 1700s, with assistance from Russian explorers, the Umnak Aleuts waged war on the people of the Islands of Four Mountains and around A.D. 1766 to 1772, that group had been substantially destroyed. Survivors of the conflict were incorporated into villages on Umnak.

Officials of the U.S. Fish and Wildlife Service, Region 7 have determined that, pursuant to 25 U.S.C. 3001 (9-10), the human remains described above represent the physical remains of 35 individuals of Native American ancestry. Officials of the U.S. Fish and Wildlife Service, Region 7 also have determined that, pursuant to 25 U.S.C. 3001 (3)(A), the 210 objects described above are reasonably believed to have been placed with or near individual human remains at the time of death or later as part of the death rite or ceremony. Lastly, officials of the U.S. Fish and Wildlife Service, Region 7 have determined that, pursuant to 25 U.S.C. 3001 (2), there is a relationship of shared group identity that can be reasonably traced between the Native American human remains and associated funerary objects and the Chaluka Corporation and Native Village of Nikolski.

Representatives of any other Indian tribe that believes itself to be culturally affiliated with the human remains and associated funerary objects should contact Debra Corbett, U.S. Fish and Wildlife Service, 1011 East Tudor Road, Anchorage, AK 99503, telephone (907) 786-3399, before August 13, 2008. Repatriation of the human remains and associated funerary objects to the Chaluka Corporation and Native Village of Nikolski may proceed after that date if no additional claimants come forward.

U.S. Fish and Wildlife Service, Region 7 is responsible for notifying the Chaluka Corporation and Native Village of Nikolski that this notice has been published.

Dated: June 5, 2008
Sherry Hutt,
Manager, National NAGPRA Program.

[FR Doc. E8-15902 Filed 7-11-08; 8:45 am]

BILLING CODE 4312-50-S